DEPARTMENT OF TRANSPORTATION

Federal Railroad Administration

[Docket Number FRA-2017-0030]

Notice of Application for Approval of Discontinuance or Modification of a Railroad Signal System

Under part 235 of title 49 of the Code of Federal Regulations (CFR) and 49 U.S.C. 20502(a), this document provides the public notice that on April 20, 2017, Norfolk Southern Corporation (NS) petitioned the Federal Railroad Administration (FRA) seeking approval for the discontinuance or modification of a signal system. FRA assigned the petition Docket Number FRA-2017-0030.

Applicant: Norfolk Southern Corporation, Mr. B.L. Sykes, Chief Engineer C&S Engineering, 1200 Peachtree Street SE., Atlanta, GA 30309.

NS seeks to discontinue the traffic control system (TCS) on the Buffalo Line between Lock Haven, PA, milepost (MP) B-end, right side/corner (BR) 194.3 and control point (CP) North Driftwood, MP BR 139.8. This includes the CPs at North Driftwood, Driftwood, South Driftwood, North Keating, Keating, South Keating, North Drury, Drury, North Baker, and South Baker and 10 automatic signals.

NS will place a new operative approach signal at BR 192.8 in approach to CP Lock Haven. All slide fences located at BR 139.8, 143.5,153.3, 173.8, 177.0, 179.6, and 188.8 will be maintained and provide protection through the use of dual-tone multi-frequency radio operation. The main track between BR 134.5 and CP Lock Haven will be converted to NS Rule 171 operation. The signaled sidings within the application limits at Baker, Drury, Keating, and Driftwood will be made non-controlled, other than main track. The reason for the discontinuance is that operations no longer require a TCS.

A copy of the petition, as well as any written communications concerning the petition, is available for review online at www.regulations.gov/ and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: https://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 10, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-10645 Filed 5-23-17; 8:45 am]

BILLING CODE 4910-06-P